DEPARTMENT OF STATE

[Public Notice: 9751]

30-Day Notice of Proposed Information Collection: Application for A, G, or NATO Visa

ACTION: Notice of request for public comment and submission to OMB of proposed collection of information.

SUMMARY: The Department of State has submitted the information collection described below to the Office of Management and Budget (OMB) for approval. In accordance with the Paperwork Reduction Act of 1995 we are requesting comments on this collection from all interested individuals and organizations. The purpose of this Notice is to allow 30 days for public comment.

DATES: Submit comments directly to the Office of Management and Budget (OMB) up to November 10, 2016.

ADDRESSES: Direct comments to the Department of State Desk Officer in the Office of Information and Regulatory Affairs at the Office of Management and Budget (OMB). You may submit comments by the following methods:

• Email: oira_submission@omb.eop.gov. You must include the DS form number, information collection title, and the OMB control number in the subject line of your message.

• Fax: 202-395-5806. Attention: Desk Officer for Department of State.

FOR FURTHER INFORMATION CONTACT: Direct requests for additional information regarding the collection listed in this notice, including requests for copies of the proposed collection instrument and supporting documents, to Andrea Lage, who may be reached at PRA_BurdenComments@state.gov. You must include the DS form number, information collection, and the OMB control number in correspondence. DO NOT submit any completed Department of State visa forms to this email or any case inquiry to this email box.

SUPPLEMENTARY INFORMATION:

• Title of Information Collection: Application for A, G, or NATO Visa.

• OMB Control Number: 1405-0100.

• Type of Request: Extension of a Currently Approved Collection.

• Originating Office: CA/VO/L/R.

• Form Number: DS-1648.

• Respondents: Foreign Government Officials

• Estimated Number of Respondents: 150,000.

• Estimated Number of Responses: 150,000.

• Average Time per Response: 30 minutes.

• Total Estimated Burden Time: 75,000.

• Frequency: On Occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The Department of State uses Form DS-1648 to solicit information from applicants for a renewal of an A, G, or NATO visa, excluding A-3, G-5, and NATO-7 classifications. INA 101(a)(15)(A) and (G) and 22 CFR 41.12 and 41.25 describe the criteria for these nonimmigrant visa classifications.

Methodology

The DS-1648 is submitted electronically to the Department via the Internet. The applicant will be instructed to print a confirmation page displaying a bar coded record locator, which will be scanned by Department of State staff at the time of processing.

Dated: August 25, 2016.
Karin King,
Acting Deputy Assistant Secretary, Bureau of Consular Affairs, Department of State.

[FR Doc. 2016-24485 Filed 10-7-16; 8:45 am]

BILLING CODE 4710-06-P